DEPARTMENT OF ENERGY

Federal Energy Regulatory Commission

[Docket No. CP20-481-000]

Notice of Revised Schedule for Environmental Review of the Rio Bravo Pipeline Company, LLC Rio Bravo Pipeline Project Amendment

This notice identifies the Federal Energy Regulatory Commission staff's revised schedule for the completion of the environmental assessment (EA) for Rio Bravo Pipeline Company, LLC's Rio Bravo Pipeline Project Amendment. The first notice of schedule, issued on August 14, 2020, identified November 16, 2020, as the EA issuance date. Following issuance of the August 14th notice of schedule, the U.S. Army Corps of Engineers and the U.S. Department of Transportation's Pipeline and Hazardous Materials Safety Administration requested cooperating agency status to review the EA, and staff required additional information from Rio Bravo Pipeline Company, LLC to further address scoping comments. As a result, staff has revised the schedule for issuance of the EA.

Schedule for Environmental Review

Issuance of the EA—December 21, 2020

90-day Federal Authorization Decision Deadline—March 22, 2021

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the eLibrary link, select General Search from the eLibrary menu, enter the selected date range and Docket Number excluding the last three digits (i.e., CP20-481), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 16, 2020.
Nathaniel J. Davis, Sr.,
Deputy Secretary.

[FR Doc. 2020-23405 Filed 10-21-20; 8:45 am]

BILLING CODE 6717-01-P